DEPARTMENT OF HEALTH AND HUMAN SERVICES

Food and Drug Administration

21 CFR Part 1

[Docket No. FDA-2013-N-0013]

Waivers From Requirements of the Sanitary Transportation of Human and Animal Food Rule; Correction

AGENCY: Food and Drug Administration, HHS.

ACTION: Notification; correction.

SUMMARY: The Food and Drug Administration (FDA) is correcting a document that appeared in the Federal Register of Thursday, April 6, 2017 (82 FR 16733). That notification published three waivers from the Requirements of 21 CFR part 1, subpart O—Sanitary Transportation of Human and Animal Food (the Sanitary Transportation rule). That document was published with an error in the Background section. This correction is being made to improve the accuracy of the notification.

DATES: July 3, 2017.

FOR FURTHER INFORMATION CONTACT: Lisa Granger, Food and Drug Administration, 10903 New Hampshire Ave., Bldg. 32, Rm. 3330, Silver Spring, MD 20993-0002, 301-796-9115, lisa.granger@fda.hhs.gov.

SUPPLEMENTARY INFORMATION: In the Federal Register of Thursday, April 6, 2017, in FR Doc. 2017-06854, on page 16734, the following correction is made:

On page 16734, in the third column, the bulleted list of waivers of the Sanitary Transportation rule was published in an incorrect format. This document corrects that format to read as follows:

In accordance with the requirements of section 416 of the FD&C Act, by this notice we are waiving the following persons from the applicable requirements of the Sanitary Transportation rule:

1. Businesses subject to the requirements of part 1, subpart O, that hold valid permits and are inspected under the National Conference on Interstate Milk Shipments' Grade “A” Milk Safety Program, only when engaged in transportation operations involving bulk and finished Grade “A” milk and milk products.

2. Businesses subject to the requirements of part 1, subpart O, that are appropriately certified and are inspected under the requirements established by the Interstate Shellfish Sanitation Conference's NSSP, only when engaged in transportation operations involving molluscan shellfish in vehicles that are permitted by the State NSSP certification authority.

3. Businesses subject to the requirements of part 1, subpart O, that are permitted or otherwise authorized by the regulatory authority to operate a food establishment that provides food directly to consumers (i.e., restaurants, retail food establishments, and nonprofit food establishments as defined in 21 CFR 1.227), only when engaged in transportation operations as:

a. Receivers, whether the food is received at the establishment itself or at a location where the authorized establishment receives and immediately transports the food to the food establishment;

b. shippers and carriers in operations in which food is transported from the establishment as part of the normal business operations of a retail establishment, such as:

i. Delivery of the food directly to the consumer(s) by the authorized establishment or a third-party delivery service; or

ii. delivery of the food to another location operated by the authorized establishment or an affiliated establishment where the food is to be sold or served directly to the consumer(s).

Dated: June 26, 2017.
Anna K. Abram,
Deputy Commissioner for Policy, Planning, Legislation, and Analysis.

[FR Doc. 2017-13888 Filed 6-30-17; 8:45 am]

BILLING CODE 4164-01-P